DEPARTMENT OF HOUSING AND URBAN DEVELOPMENT

[Docket No. FR-4630-FA-06]

Announcement of Funding Awards for Fiscal Year 2001 Alaska Native/Native Hawaiian Institutions Assisting Communities Program

AGENCY: Office of the Assistant Secretary for Policy Development and Research, HUD.

ACTION: Announcement of funding awards.

SUMMARY: In accordance with section 102 (a)(4)(C) of the Department of Housing and Urban Development Reform Act of 1989, this document notifies the public of funding awards for Fiscal Year 2001 Alaska Native/Native Hawaiian Institutions Assisting Communities Program. The purpose of this document is to announce the names and addresses of the award winners and the amount of the awards which are to be used to help Alaska Native and Native Hawaiian Institutions of Higher Education expand their role and effectiveness in addressing community development needs in their localities, consistent with the purposes of HUD's Community Development Block Grant program (CDBG) .

FOR FURTHER INFORMATION CONTACT: Barbara Holland, Office of University Partnerships, U.S. Department of Housing and Urban Development, Room 8106, 451 Seventh Street, SW., Washington, DC 20410, telephone (202) 708-3061. To provide service for persons who are hearing-or-speech-impaired, this number may be reached via TTY by Dialing the Federal Information Relay Service on 1-800-877-TTY, 1-800-877-8339, or 202-708-1455. (Telephone number, other than “800” TTY numbers are not toll free.)

SUPPLEMENTARY INFORMATION: The Alaska Native/Native Hawaiian Institutions Assisting Communities Program (AN/NHIAC) was enacted under section 107 of the CDBG appropriation for fiscal year 2001, as part of the “Veterans Administration, HUD and Independent Agencies Appropriations Act of 2001” and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The Alaska Native/Native Hawaiian Institutions Assisting Communities Program provides funds for a wide range of CDBG-eligible activities including housing rehabilitation and financing, property demolition or acquisition, public facilities, economic development, business entrepreneurship, and fair housing programs. On February 26, 2001 (66 FR 11779), HUD published a Notice of Funding Availability (NOFA) announcing the availability of $4.2 million in Fiscal Year 2001 and carryover funds for the Alaska Native/Native Hawaiian Institutions Assisting Communities Program. The Department reviewed, evaluated and scored the applications received based on the criteria in the NOFA. As a result, HUD three applications were funded. These grants, with their grant amounts are identified below.

The Catalog Federal Domestic Assistance number for this program is 14.515.

In accordance with section 102(a)(4)(C) of the Department of Housing and Urban Development Reform Act of 1989 ((103 Stat. 1987, U.S.C. 3545), the Department is publishing details concerning the recipients of funding awards, as follows:

List of Awardees for Grant Assistance Under the FY 2001

Alaska Native/Hawaiian Institutions Assisting Communities Program Funding Competition, by Name and Address

Pacific/Hawaii

1. University of Hawaii for Kauai Community College, Maui Community College, and Leeward Community College, Dr. Peggy Cha (Kauai), Mike Inouye (Maui), and Mike Pecsok (Leeward), University of Hawaii, 2530 Dole Street, Sakamaki D-200, Honolulu, HI 96822. Grant: $1,192,620, $398,749 for Kauai, $304,013 for Kaui, and $399,848 for Leeward.

Northwest/Alaska

2. University of Alaska Fairbanks, Interior-Aleutians Campus, Clara Johnson, University of Alaska Fairbanks, Interior-Aleutians Campus, P.O. Box 757880, Fairbanks, AK 99775. Grant: $397,713.

3. University of Alaska Fairbanks, Bristol Bay Campus, Dr. Margaret Wood, University of Alaska Fairbanks, Bristol Bay Campus, P.O. Box 1070, Dillingham, AK 99576. Grant: $400,000.

Dated: October 4, 2001.
Lawrence L. Thompson,
General Deputy Assistant Secretary for Policy Development and Research.

[FR Doc. 01-26332 Filed 10-18-01; 8:45 am]

BILLING CODE 4210-62-P